DEPARTMENT OF COMMERCE

National Oceanic and Atmospheric Administration

RIN 0648-XF396

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Management Team (GMT) will hold a webinar that is open to the public.

DATES: The GMT webinar will be held Thursday, May 18, 2017, from 1 p.m. to 3:30 p.m.; or until business for each day is completed.

ADDRESSES: To attend the webinar (1) join the meeting by visiting this link http://www.gotomeeting.com/online/webinar/join-webinar, (2) enter the Webinar ID: 349-453-339, and (3) enter your name and email address (required). After logging in to the webinar, please (1) dial this TOLL number 1-415-655-0060 (not a toll-free number), (2) enter the attendee phone audio access code 229-858-558, and (3) then enter your audio phone pin (shown after joining the webinar). NOTE: We have disabled Mic/Speakers as on option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (See the GoToMeeting WebinarApps). You may send an email to Mr. Kris Kleinschmidt at Kris.Kleinschmidt@noaa.gov or contact him at 503-820-2280, extension 411 for technical assistance. A public listening station will also be available at the Pacific Council office.

Council address: Pacific Council, 7700 NE Ambassador Place, Suite 101, Portland, OR 97220-1384; telephone: (503) 820-2280.

FOR FURTHER INFORMATION CONTACT: Ms. Kelly Ames, Pacific Council; phone: (503) 820-2426.

SUPPLEMENTARY INFORMATION: The primary purpose of the GMT webinar is to receive a presentation from NMFS on the analysis of trawl gear regulation changes, which are designed to reflect the individual accountability provided by the trawl catch share program. In March 2016, the Council recommended: Allowing vessels to carry and use multiple trawl gears types on a single trip (fish caught using different gears must be stowed separately); eliminating minimum mesh size regulations for the codend and body of the net; eliminating restrictions on codends; eliminating chafing gear restrictions; allowing a new haul to be brought onboard and dumped before all catch from previous haul has been stowed; and changing the selective flatfish trawl gear definition and restrictions. The selective flatfish trawl gear definition would be changed to allow the use of four seams nets. Furthermore, the restriction that requires use of selective flatfish trawl gear shoreward of the Rockfish Conservation Area in the area north of 40°10′ N. latitude would be replaced by a restriction that requires use of small footrope trawl in that area. At its June 2016 meeting, the Pacific Council added to this list a recommendation to allow a vessel to fish in multiple management areas on the same trip and assign catch to management areas in proportion to the vessel's effort in each area on that trip. A detailed agenda for the webinar will be available on the Pacific Council's Web site prior to the meeting. The GMT may also address other assignments relating to groundfish management. No management actions will be decided by the GMT. The GMT's task will be to assist in the analysis as necessary. The GMT will provide a report summarizing the expected tasks and workload to the Pacific Council its June 2017 meeting.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt at (503) 820-2411 at least 10 business days prior to the meeting date.

Dated: May 3, 2017.
Tracey L. Thompson,
Acting Deputy Director, Office of Sustainable Fisheries, National Marine Fisheries Service.

[FR Doc. 2017-09217 Filed 5-5-17; 8:45 am]

BILLING CODE 3510-22-P